ENVIRONMENTAL PROTECTION AGENCY

[EPA-HQ-OPP-2011-0877; FRL-9326-8]

Pesticides: Availability of Pesticide Registration Notice Regarding the Non-Dietary Exposure Task Force

AGENCY: Environmental Protection Agency (EPA).

ACTION: Notice.

SUMMARY: The Agency is announcing the availability of a Pesticide Registration Notice (PR Notice) regarding the data development efforts of the Non-Dietary Exposure Task Force (NDETF). This PR Notice (PR Notice 2011-2) was issued by the Agency on November 10, 2011. PR Notices are issued by the Office of Pesticide Programs to inform pesticide registrants and other interested persons about important policies, procedures, and registration related decisions, and serve to provide guidance to pesticide registrants and OPP personnel. This particular PR Notice updates PR Notice 2000-7 that initially announced the formation of the NDETF. The updated Notice provides current information concerning the NDETF's development of data supporting pesticide registration, in which registrants may wish to participate.

FOR FURTHER INFORMATION CONTACT: Richard P. Dumas, Pesticide Re-evaluation Division (7508P), Office of Pesticide Programs, Environmental Protection Agency, 1200 Pennsylvania Ave. NW., Washington, DC 20460-0001; telephone number: (703) 308-8015; fax number: (703) 308-8005; email address: dumasr.richard@epa.gov.

SUPPLEMENTARY INFORMATION:

I. General Information

A. Does this action apply to me?

You may be potentially affected by this notice if you register pesticide products intended for residential uses under the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0877. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What guidance does this PR notice provide?

The Agency is announcing the issuance of Pesticide Registration Notice (PR-2011-2) that addresses the data development efforts of the NDETF. The formation of the NDETF was initially announced in PR Notice 2000-7 which was signed on August 4, 2000. When registering or periodically reviewing an existing registration, the Agency evaluates the potential risks to people from exposure to the pesticide in and around the home. The NDETF was formed to develop information on exposure to pesticides that can be used by EPA, and other regulatory agencies responsible for assuring the safety of pesticides. Since the initial notice in 2000, the membership of the task force has changed and the specific data needs have been better defined. The purpose of the PR Notice is to describe what data the NDETF has generated and plans to generate, to describe how EPA expects to use the data, and to inform registrants of the opportunity to join NDETF.

III. Do PR Notices contain binding requirements?

The PR Notice discussed in this notice is intended to provide information to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Pesticides and pests.

Dated: November 10, 2011.
Steven Bradbury,
Director, Office of Pesticide Programs.

[FR Doc. 2011-30141 Filed 11-22-11; 8:45 am]

BILLING CODE 6560-50-P